DEPARTMENT OF DEFENSE

Department of the Navy

Notice of Availability of Invention for Licensing; Government-Owned Invention

AGENCY: Department of the Navy, DOD.

ACTION: Notice.

SUMMARY: The invention listed below is assigned to the United States Government as represented by the Secretary of the Navy and is available for licensing by the Department of the Navy. U.S. Patent No. 6,264,543 entitled “Meat Tenderization and Sterilization Using Axial Planer Shockwaves.”

ADDRESSES: Requests for copies of the patent cited should be directed to Coastal Systems Station, Dahlgren Division, NSWC, 6703 W. Hwy 98, Code CP20L, Panama City, FL 32407-7001.

FOR FURTHER INFORMATION CONTACT: Mr. Harvey A. Gilbert, Counsel, Coastal Systems Station, 6703 W. Hwy 98, Code CP20L, Panama City, FL 32407-7001, telephone (850) 234-4646.

(Authority: 35 U.S.C. 207, 37 CFR part 404)
Dated: August 16, 2001.
S.K. Melancon,
Paralegal Specialist, Office of the Judge Advocate General, Alternate Federal Register Liaison Officer.

[FR Doc. 01-21672 Filed 8-27-01; 8:45 am]

BILLING CODE 3810-FF-P